DEPARTMENT OF THE INTERIOR

Fish and Wildlife Service

Final Comprehensive Conservation Plan (CCP) and Environmental Assessment (EA) for the Minnesota Valley National Wildlife Refuge (NWR) and Minnesota Valley Wetland Management District (WMD), Bloomington, MN

AGENCY: Fish and Wildlife Service, Interior.

ACTION: Notice of availability.

SUMMARY: The U.S. Fish and Wildlife Service announces that the final CCP and EA is available for Minnesota Valley NWR and Minnesota Valley WMD, Bloomington, Minnesota. The CCP was prepared pursuant to the National Wildlife Refuge System Administration Act of 1966, as amended by the National Wildlife Refuge System Improvement Act of 1997, and the National Environmental Policy Act of 1969. The goals and objectives presented in the CCP describe how the agency intends to manage the Refuge and waterfowl production areas over the next 15 years.

ADDRESSES: Copies of the final CCP and EA are available on compact disk or hard copy. You may access and download a copy via the Refuge Web site at: http://midwest.fws.gov/planning/MinnesotaValley/index.html or by writing to the Refuge at: Minnesota Valley National Wildlife Refuge, 3815 East 80th Street, Bloomington, Minnesota 55425-1600.

FOR FURTHER INFORMATION CONTACT: Rick Schultz, Refuge Manager, (952) 854-5900.

SUPPLEMENTARY INFORMATION: The Minnesota Valley NWR is located along 34 miles of the lower Minnesota River from near the City of Jordan to historic Fort Snelling and the river's confluence with the Mississippi River. The Refuge is also responsible for a 14-county region known as the Minnesota Valley Wetland Management District. It consists of more than 5,000 acres of waterfowl production areas and conservation easements.

The CCP recommends an expansion of the current boundaries by a total of 10,737 acres in 6 new units of the Refuge.

Funding for land acquisition will in large part be available through a Refuge Trust Fund established as mitigation for damages caused by expansion of the Minneapolis/St. Paul International Airport.

We intend to increase hunting opportunities by expanding archery deer hunts, providing wild turkey and deer hunts for disabled hunters, improving the youth waterfowl hunting program, and by opening newly-acquired lands to appropriate hunting uses.

The CCP proposes interpretive programs and improvements to existing facilities that will maintain or increase visitation from the present 250,000-300,000 visitors a year.

Dated: July 2, 2004.
Charles M. Wooley,
Acting Regional Director, U.S. Fish and Wildlife Service, Ft. Snelling, Minnesota.

[FR Doc. 04-21375 Filed 9-22-04; 8:45 am]

BILLING CODE 4310-55-P